ENVIRONMENTAL PROTECTION AGENCY

[FRL-8514-3]

Human Impacts of Climate Change Advisory Committee

AGENCY: U.S. Environmental Protection Agency, HICCAC.

ACTION: Notice of a public conference call meeting of the U.S. Environmental Protection Agency's Human Impacts of Climate Change Advisory Committee (HICCAC) on January 14, 2008, at 12 noon until 2 pm. (EST).

SUMMARY: Pursuant to the Federal Advisory Committee Act, Public Law 92-463 as amended (5 U.S.C., App. 2), notification is hereby given that the U.S. Environmental Protection Agency, Office of Research and Development (ORD) will hold a public conference call meeting of the HICCAC. This public conference call meeting is a follow-up to the public meeting that was held on October 15-16, 2007 (72 FR 52877, September 17, 2007).

The U.S. District Court for the District of Northern California has ordered the interagency U.S. Climate Change Science Program (CCSP) to produce the periodic scientific assessment of climate change required by the Global Change Research Act of 1990 by May 31, 2008 (Center for Biological Diversity v. Brennan, et al., 2007 WL 2408901 [No. 06-7062, Aug. 21, 2007]). Synthesis and Assessment Product 4.6, which is being reviewed by the HICCAC, is an integral component of this assessment. The CCSP has directed EPA to complete and submit a final draft of Product 4.6 to the CCSP by January 31, 2008. To meet this deadline, the HICCAC is holding this conference call meeting to review its final report on this product. This notice is being published less than 15 days before the teleconference. Product 4.6 is a large document that has been developed under an unusually short time frame, with impacts on the authors' and committee members' schedules. January 14 is the only date that the Committee is available to hold this conference call meeting. Since EPA will likely have to make changes to the document following the teleconference, delaying this meeting would cause EPA to be late in submitting this product to the CCSP. Participants will discuss the revisions to the document that were a result of the public meeting in October. The CCSP expects to release the draft scientific assessment in April 2008. Interested parties will have an opportunity to review and comment on the entire scientific assessment, including Product 4.6, when it is released to the public.

Public Participation: Members of the public may submit written comments to Joanna Foellmer, Designated Federal Official, HICCAC (see the FOR FURTHER INFORMATION CONTACT section below). In addition, members of the public may call into the conference call meeting as observers, and there will be a limited time for comments from the public. Please contact Joanna Foellmer no later than COB January 10, 2008, if you wish to make oral comments during the conference call meeting. Requests to make oral comments must be in writing (via e-mail, fax or ground mail). Please send a copy of your presentation to Joanna Foellmer by January 12, 2008. Information on services for the disabled may be obtained by contacting Joanna Foellmer.

Agenda: The proposed agenda for the conference call includes, but is not limited to, a review of the revised Synthesis and Assessment Product (SAP 4.6) that analyzes the impacts of global change on human health, human settlements, and human welfare. The HICCAC will respond to the changes made to the final report based on the review of an earlier draft of the report. There will be a discussion by the HICCAC panel with respect to their individual and collective assessment of the revised SAP 4.6 report. A draft agenda may be obtained from Joanna Foellmer (see the FOR FURTHER INFORMATION CONTACT section below).

DATES: The conference call will take place on January 14, 2008, at 12 noon until 2 pm (EST).

FOR FURTHER INFORMATION CONTACT: Questions regarding information and logistics for the HICCAC public conference call meeting should be directed to Joanna Foellmer by telephone: 703-347-8508, by e-mail: Foellmer.Joanna@epa.gov, by fax: 703-347-8694, or by regular mail: Joanna Foellmer, ORD/NCEA (Mail Code 8601P), U.S. Environmental Protection Agency, 1200 Pennsylvania Avenue, NW., Washington, DC 20460.

SUPPLEMENTARY INFORMATION: The HICCAC supports the U.S. Environmental Protection Agency (EPA) in its participation in the interagency U.S. Climate Change Science Program (CCSP), specifically in implementation of Goal 4 of the Strategic Plan for the CCSP. Goal 4 is to understand “the sensitivity and adaptability of different natural and managed ecosystems and human systems to climate and related global changes.” EPA also helps the CCSP satisfy its requirement to conduct periodic assessments of climate change and variability, as set forth in the Global Change Research Act of 1990. The HICCAC serves in the public's interest and supports EPA in performing its duties and responsibilities.

The primary responsibility of the HICCAC is to conduct an expert peer review of the external review draft report entitled: “Synthesis and Assessment Product 4.6: Analyses of the effects of global change on human health and welfare and human systems” (SAP 4.6). The HICCAC will provide advice to the EPA Administrator on the results of this study, and within the context of the basic study plan, the HICCAC will advise on: (1) The specific issues to be addressed; (2) appropriate technical approaches; (3) the usefulness of information provided to decision makers; (4) the quality of the content of the final report; (5) compliance with the Information Quality Act; and (6) other matters important to the successful achievement of the objectives of the study. Additionally, once the Agency completes its responses to the comments received from the HICCAC and the public, the HICCAC will review the Agency's responses.

EPA has already released the external draft SAP 4.6 report for public review. The Federal Register notice (FR 72 39798) announcing a forty-five day public comment period was posted on the U.S. Climate Change Science Program (CCSP) Web site (www.climatescience.gov) on July 20, 2007. This report is accessible at www.epa.gov/ncea under Recent Additions and is linked to the CCSP Web site.

Dated: December 31, 2007.
Rebecca Clark,
Deputy Director, National Center for Environmental Assessment.

[FR Doc. E8-22 Filed 1-4-08; 8:45 am]

BILLING CODE 6560-50-P